DEPARTMENT OF TRANSPORTATION

Federal Aviation Administration

14 CFR Part 71

[Docket No. FAA-2004-18819; Airspace Docket No. 04-ACE-45]

Modification of Class D Airspace; and Modification of Class E Airspace; Grand Island, NE

AGENCY: Federal Aviation Administration (FAA), DOT.

ACTION: Direct final rule; request for comments, correction.

SUMMARY: This action corrects a direct final rule; request for comments that was published in the Federal Register on Wednesday, September 22, 2004, (69 FR 56690) [FR Doc. 04-21226]. It corrects an error in the legal description of the Class E airspace area extending upward from 700 feet above the surface at Grand Island, NE.

DATES: This direct final rule is effective on 0901 UTC, January 20, 2005.

FOR FURTHER INFORMATION CONTACT: Brenda Mumper, Air Traffic Division, Airspace Branch, ACE-520A, DOT Regional Headquarters Building, Federal Aviation Administration, 901 Locust Street, Kansas City, MO 64106; telephone: (816) 329-2524.

SUPPLEMENTARY INFORMATION:

History

Federal Register Document 04-21226, published on Wednesday, September 22, 2004, (69 FR 56690) modified the Class D airspace area, the Class E airspace area designated as a surface area, the Class E airspace area designated as an extension to the Class D airspace area and the Class E airspace area extending upward from 700 feet above the surface at Grand Island, NE. The modification corrected discrepancies in the Central Nebraska Regional Airport airport reference point used in the legal descriptions, redefined extensions to the airspace areas and brought the legal descriptions of the Grand Island, NE Class E airspace areas into compliance with FAA Orders 7400.2E, Procedures for Handling Airspace Matters, and 8260.19C, Flight Procedures and Airspace. However, the format of the legal description for the Class E airspace area extending upward from 700 feet above the surface was incorrect.

Accordingly, pursuant to authority delegated to me, the legal description of the Class E airspace area extending upward from 700 feet above the surface at Grand Island, NE, as published in the Federal Register on Wednesday, September 22, 2004, (69 FR 56690) [FR Doc. 04-21226] is corrected as follows:

§ 71.1 [Corrected]

On page 56692, Column 2, third paragraph, fifth and sixth lines, delete “Grand Island VORTAC (lat. 40°59′03′′ N., long. 98°18′53′′ W.).” In the last line of the same paragraph, change “Central Nebraska Regional” to read “Central Nebraska Regional Airport”.

Issued in Kansas City, MO, on September 29, 2004
Paul J. Sheridan,
Manager, Air Traffic Division, Central Region.

[FR Doc. 04-22746 Filed 10-7-04; 8:45 am]

BILLING CODE 4910-13-M